DEPARTMENT OF ENERGY

Federal Energy Regulatory Commission

[Project No. 13598-000]

Northbrook Carters Lake, LLC; Notice of Preliminary Permit Application Accepted for Filing and Soliciting Comments, Motions To Intervene, and Competing Applications

December 7, 2009.

On October 1, 2009, Northbrook Carters Lake, LLC filed an application for a preliminary permit, pursuant to section 4(f) of the Federal Power Act, proposing to study the feasibility of the Carters Lake Hydro Project, which would be located at the U.S. Army Corps of Engineer's Carters Reregulation Dam on the Coosawattee River near the town of Calhoun, Murray County, Georgia. The sole purpose of a preliminary permit, if issued, is to grant the permit holder priority to file a license application during the permit term. A preliminary permit does not authorize the permit holder to perform any land disturbing activities or otherwise enter upon lands or waters owned by others without the owners' express permission.

The proposed project would consist of the following:

(1) The existing 208-foot-wide Carters Reregulation Dam; (2) an existing 870-acre reservoir having a storage capacity of 17,210 acre-feet and water surface elevations between 677 feet and 696 feet mean sea level; (3) an intake and conduits delivering water to the project turbines; (4) a concrete powerhouse located 90 feet downstream of the dam; (5) two new Kaplan generating units having an installed capacity of 4.5-megawatts; (6) a newly excavated 700-foot-long tailrace; (7) a proposed transmission line 0.5 mile long; and (8) appurtenant facilities. The project would have an average annual generation of 17.325 gigawatt-hours.

Applicant Contact: Mr. Chris Sinclair; Northbrook Energy, LLC; 14550 N Frank Lloyd Wright Blvd., Ste 210; Scottsdale, AZ 85260; phone: (480) 551-1221.

FERC Contact: Monte TerHaar at monte.terhaar@ferc.gov or phone 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13598) in the docket number field to access the document. For assistance, contact FERC Online Support.

Kimberly D. Bose,
Secretary.

[FR Doc. E9-29622 Filed 12-11-09; 8:45 am]

BILLING CODE 6717-01-P